SMALL BUSINESS ADMINISTRATION

[Disaster Declaration # 11320]

Wisconsin Disaster # WI-00014

AGENCY: U.S. Small Business Administration.

ACTION: Notice

SUMMARY: This is a Notice of the Presidential declaration of a major disaster for Public Assistance Only for the State of Wisconsin (FEMA-1768-DR), dated 06/14/2008.

Incident: Severe Storms, Tornadoes, and Flooding.

Incident Period: 06/05/2008 and continuing.

Effective Date: 06/14/2008.

Physical Loan Application Deadline Date: 08/13/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 06/14/2008, Private Non-Profit organizations that provide essential services of a governmental nature may file disaster loan applications at the address listed above or other locally announced locations.

The following areas have been determined to be adversely affected by the disaster:

Primary Counties:

Adams, Columbia, Crawford, Dane, Dodge, Grant, Iowa, Lafayette, Milwaukee, Monroe, Richland, Sauk, Vernon, Winnebago.

The Interest Rates are:

| Percent
Other (Including non-profit organizations) with credit available elsewhere | 5.250
Businesses and non-profit organizations without credit available elsewhere | 4.000

The number assigned to this disaster for physical damage is 11320.

(Catalog of Federal Domestic Assistance Number 59008)

Herbert L. Mitchell,
Associate Administrator for Disaster Assistance.

[FR Doc. E8-15965 Filed 7-11-08; 8:45 am]

BILLING CODE 8025-01-P